ENVIRONMENTAL PROTECTION AGENCY

40 CFR Part 62

[EPA-R05-OAR-2012-0087; FRL-9663-4]

Direct Final Approval of Hospital/Medical/Infectious Waste Incinerators State Plan for Designated Facilities and Pollutants: Illinois

AGENCY: Environmental Protection Agency (EPA).

ACTION: Direct final rule.

SUMMARY: EPA is approving Illinois' revised State Plan to control air pollutants from “Hazardous/Medical/Infectious Waste Incinerators” (HMIWI). The Illinois Environmental Protection Agency (IEPA) submitted the revised State Plan on November 8, 2011 and supplemented it on December 28, 2011. The revised State Plan is consistent with revised Emission Guidelines (EGs) promulgated by EPA on October 6, 2009. This approval means that EPA finds that the revised State Plan meets applicable Clean Air Act (Act) requirements for subject HMIWI units. Once effective, this approval also makes the revised State Plan Federally enforceable.

DATES: This direct final rule will be effective June 25, 2012, unless EPA receives adverse comments by May 24, 2012. If adverse comments are received, EPA will publish a timely withdrawal of the direct final rule in the Federal Register informing the public that the rule will not take effect.

ADDRESSES: Submit your comments, identified by Docket ID No. EPA-R05-OAR-2012-0087, by one of the following methods:

1. www.regulations.gov: Follow the on-line instructions for submitting comments.

2. Email: nash.carlton@epa.gov.

3. Fax: (312)886-6030.

4. Mail: Carlton T. Nash, Chief, Toxics and Global Atmosphere Section, Air Toxics and Assessment Branch (AT-18J), U.S. Environmental Protection Agency, 77 West Jackson Boulevard, Chicago, Illinois 60604.

5. Hand Delivery: Carlton T. Nash, Chief, Toxics and Global Atmosphere Section, Air Toxics and Assessment Branch (AT-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2012-0087. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This Facility is open from 8:30 a.m. to 4:30 p.m., Monday through Friday, excluding Federal holidays. We recommend that you telephone Margaret Sieffert, Environmental Engineer, at (312) 353-1151 before visiting the Region 5 office.

FOR FURTHER INFORMATION CONTACT: Margaret Sieffert, Environmental Engineer, Environmental Protection Agency, Region 5, 77 West Jackson Boulevard (AT-18J), Chicago, Illinois 60604, (312) 353-1151, sieffert.margaret@epa.gov.

SUPPLEMENTARY INFORMATION: Throughout this document whenever “we,” “us,” or “our” is used, we mean EPA. This supplementary information section is arranged as follows:

I. Background

II. What does the state plan contain?

III. Does the state plan meet the EPA requirements?

IV. What action is EPA taking?

V. Statutory and Executive Order Reviews

I. Background

On October 6, 2009, in accordance with sections 111 and 129 of the Act, EPA promulgated revised HMIWI EGs and compliance schedules for the control of emissions from HMIWI units. See 74 FR 51368. EPA codified these revised regulations at 40 CFR part 60, subpart Ce. A HMIWI unit as defined in 40 CFR 60.51c is any device that combusts any amount of hospital waste and/or medical/infectious waste. Under section 129(b)(2) of the Act and the revised guidelines at subpart Ce, States with subject sources must submit to EPA plans that implement the revised EGs. The plans must be at least as protective as the revised EGs, which are not Federally enforceable until EPA approves a State Plan (or promulgates a Federal Plan for implementation and enforcement).

On November 8, 2011 and supplemented on December 28, 2011, Illinois submitted its revised HMIWI State Plan to EPA. This submission followed public hearings for preliminary adoption of a revised State rule at 35 Ill. Adm. Code Part 229 on June 8, 2011 and June 28, 2011, and for final adoption on September 22, 2011. The revised rule at 35 Ill. Adm. Code Part 229, which establishes emission standards for existing HMIWI, became effective on September 30, 2011. The revised Plan includes the revisions to 35 Ill. Adm. Code Part 229.

II. What does the State plan contain?

The State submittal is based on the revised HMIWI EGs (40 CFR subpart Ce) and the revised New Source Performance Standards (NSPS) (40 CFR part 60, subpart Ec) for HMIWI promulgated on October 6, 2009. The State's revised rule at 35 Ill. Adm. Code Part 229 incorporates significant portions of the HMIWI EG's. As set forth in CAA section 129 and in 40 CFR part 60, subparts B and Ce, the revised State Plan address the thirteen minimum required elements, as follows:

1. A demonstration of the State's legal authority to carry out the HMIWI State Plan and identification of the enforceable mechanisms. Illinois has provided a detailed list of its legal authorities to carry out its Plan and identified the enforceable mechanism.

2. An inventory of affected HMIWI units, including language that states that sources subject to the standard “include but are not limited to” the inventory in the State Plan and an additional statement that says “should another source be discovered subsequent to this notice, there will be no need to reopen the State Plan.” Illinois has provided this.

3. An inventory of the emissions from each of the HMIWI units. Illinois has provided this.

4. Emission limits for HMIWI that are the same as those required by the EG. Illinois has provided this.

5. Testing and monitoring requirements that are the same as those required by the EG. Illinois has provided this.

6. Reporting and recordkeeping requirements that are the same as those required by the EG. Illinois has provided this.

7. Operator training and qualification requirements that are the same as those required by the EG. Illinois has provided this.

8. Inspections requirements that are the same as those required by the EG. Illinois has provided this.

9. Waste management plan requirements that are the same as those in the EG. Illinois has provided this.

10. A compliance schedule with increments. Illinois has provided this.

11. A final compliance date of October 6, 2014. Illinois has provided this.

12. A record of public hearings on the revised State rule and Plan. Illinois has provided this.

13. A provision for State progress reports to EPA. Illinois will submit information pertaining to emissions, inspections, status of compliance, dates of performance testing, and enforcement actions to EPA's Emissions Inventory System and Air Facility System. Illinois has stated they will work with EPA regarding the format required for submission of performance test reports and correlation of State test data to emission limits.

III. Does the state plan meet the EPA requirements?

EPA evaluated the revised HMIWI State Plan submitted by Illinois for consistency with the Act, EPA regulations and policy. For the reasons discussed above, EPA has determined that the revised State Plan meets all applicable requirements and, therefore, is approving it.

IV. What action is EPA taking?

EPA is approving the revised State Plan which Illinois submitted on November 8, 2011 and December 28, 2011, for the control of emissions from existing HMIWI sources in the State. EPA is publishing this approval notice without prior proposal because the Agency views this as a non-controversial action and anticipates no adverse comments. However, in the proposed rules section of this Federal Register publication, EPA is publishing a separate document that will serve as the proposal to approve the State Plan in the event adverse comments are filed. This rule will be effective June 25, 2012 without further notice unless we receive relevant adverse written comments by May 24, 2012. If we receive such comments, we will withdraw this action before the effective date by publishing a subsequent document that will withdraw the final action. All public comments received will then be addressed in a subsequent final rule based on the proposed action. EPA will not institute a second comment period. Any parties interested in commenting on this action should do so at this time. If we do not receive any comments, this action will be effective June 25, 2012.

V. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal requirement, and does not alter the relationship or the distribution of power and responsibilities established in the Act. This rule also is not subject to Executive Order 13045 (62 FR 19885, April 23, 1997), because it approves a state rule implementing a Federal standard.

In reviewing Section 111(d)/129 plan submissions, EPA's role is to approve state choices, provided that they meet the criteria of the Act. In this context, in the absence of a prior existing requirement for the State to use voluntary consensus standards (VCS), EPA has no authority to disapprove a Section 111(d)/129 plan submission for failure to use VCS. It would thus be inconsistent with applicable law for EPA, when it reviews a Section 111(d)/129 plan submission, to use VCS in place of a Section 111(d)/129 plan submission that otherwise satisfies the provisions of the Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under Section 307(b)(1) of the Act, petitions for judicial review of this action must be filed in the United States Court of Appeals for the appropriate circuit by June 25, 2012. Filing a petition for reconsideration by the Administrator of this final rule does not affect the finality of this rule for the purposes of judicial review nor does it extend the time within which a petition for judicial review may be filed, and shall not postpone the effectiveness of such rule or action. This action approving Illinois' Section 111(d)/129 plan revision for HMIWI sources may not be challenged later in proceedings to enforce its requirements. (See section 307(b)(2).)

List of Subjects in 40 CFR Part 62

Environmental protection, Air pollution control, Administrative practice and procedure, Hospital medical infectious waste incinerators, Intergovernmental relations, Reporting and recordkeeping requirements.

Dated: April 9, 2012.
Susan Hedman,
Regional Administrator, Region 5.

40 CFR part 62 is amended as follows:

PART 62—[AMENDED]

1. The authority citation for part 62 continues to read as follows:

Authority: 42 U.S.C. 7401 et seq.

Subpart O—Illinois

2. Sections 62.3340, 62.3341, and 62.3342 are revised to read as follows:

§ 62.3340 Identification of plan.

Illinois submitted, on November 8, 2011 and supplemented on December 28, 2011, a revised State Plan for implementing the Emission Guidelines affecting Hospital/Medical Infectious Waste Incinerators (HMIWI). The enforceable mechanism for this revised State plan is 35 Ill. Adm. Code Part 229. This rule was adopted by the Illinois Pollution Control Board on September 22, 2011 and became effective on September 30, 2011.

§ 62.3341 Identification of sources.

The Illinois State Plan for existing Hospital/Medical/Infectious Waste Incinerators (HMIWI) applies to all HMIWIs for which:

(a) Construction commenced either on or before June 20, 1996 or modification was commenced either on or before March 16, 1998; or

(b) Construction commenced either after June 20, 1996, but no later than December 1, 2008, or for which modification is commenced after March 16, 1998, but no later than April 6, 2010.

§ 62.3342 Effective date.

The Federal effective date of the Illinois State Plan for existing Hospital/Medical/Infectious Waste Incinerators is June 25, 2012.

[FR Doc. 2012-9712 Filed 4-23-12; 8:45 am]

BILLING CODE 6560-50-P